DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 17, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Partnerships and Public Engagement

Title: USDA 1994 Tribal Scholars Program.

OMB Control Number: 0503-0016.

Summary of Collection: The purpose of the U.S. Department of Agriculture 1994 Tribal Scholars Program is to strengthen the long-term partnership between USDA and the 1994 Land-Grant Institutions to increase the number of students studying and graduating in food, agricultural, natural resources, and other related fields of study, and to develop a pool of scientists and professionals to annually fill 50,000 jobs in the food, agricultural, and natural resources system. The USDA 1994 Tribal Scholars Program is an annual joint human capital initiative between USDA and the Nation's 1994 Land-Grant Institutions, also known as 1994 Tribal Colleges and Universities. This program offers a combination of paid work experience with a USDA sponsoring agency through an appointment under the Fellowship Experience Program. USDA Tribal Scholarship recipients are required to study in the food, and agricultural, and related sciences, as defined by the National Agricultural Research, Extension, and Teaching Policy Act of 1977 (7 U.S.C. 3103 (8)).

Need and Use of the Information: Information will be collected to determine the eligibility of applicants to the USDA Tribal Scholars Program. Each applicant to the program will be required to submit the following: An essay, resume, two letters of recommendation, and transcripts. The collected information is needed for identifying and tracking capital needs of USDA agencies and the hiring of students from 1994 Land-Grant Institutions through a paid training program and associated scholarship with the objective of preparing the student to complete for placement into USDA's workforce.

Description of Respondents: Individuals or households.

Number of Respondents: 170.

Frequency of Responses: Reporting: Annually.

Total Burden Hours: 663.

Ruth Brown,
Departmental Information Collection Clearance Officer.

[FR Doc. 2022-27365 Filed 12-15-22; 8:45 am]

BILLING CODE 3412-88-P